NUCLEAR REGULATORY COMMISSION

[Docket Nos. 50-266 and 50-301]

Nuclear Management Company, LLC; Notice of Withdrawal of Application for Amendment to Facility Operating License

The U.S. Nuclear Regulatory Commission (the Commission) has granted the request of Nuclear Management Company, LLC (the licensee) to withdraw its October 5, 1999, application for proposed amendment to Facility Operating License Nos. DPR-24 and DPR-27 for the Point Beach Nuclear Plant, Units 1 and 2, located in Town of Two Creeks, Manitowoc County, Wisconsin.

The proposed amendment would have revised the Technical Specifications (TSs) to eliminate inconsistencies, principally related to decay heat removal. The amendment is no longer necessary because the inconsistencies are being corrected as part of a separate application dated November 15, 1999, to convert Point Beach's current TSs to improved TSs. The November 15, 1999, application is currently being reviewed by the staff of the Commission.

The Commission had previously issued a Notice of Consideration of Issuance of Amendment published in the Federal Register on November 17, 1999 (64 FR 62717). However, by letter dated December 19, 2000, the licensee withdrew the proposed change.

For further details with respect to this action, see the application for amendment dated October 5, 1999, as supplemented May 19, 2000, and the licensee's letter dated December 19, 2000, which withdrew the application for license amendment. Documents may be examined, and/or copied for a fee, at the NRC's Public Document Room, located at One White Flint North, 11555 Rockville Pike (first floor), Rockville, Maryland, and accessible electronically through the ADAMS Public Electronic Reading Room link at the NRC Web site (http://www.nrc.gov).

Dated at Rockville, Maryland, this 5th day of January 2001.
For the Nuclear Regulatory Commission.
Beth A. Wetzel,
Senior Project Manager, Section 1, Project Directorate III, Division of Licensing Project Management, Office of Nuclear Reactor Regulation.

[FR Doc. 01-1174 Filed 1-12-01; 8:45 am]

BILLING CODE 7590-01-U